DEPARTMENT OF THE INTERIOR

[FWS-R4-ES-2024-N028; FVHC98220410150-XXX-FF04H00000]

Deepwater Horizon Natural Resource Damage Assessment Alabama Trustee Implementation Group Draft Restoration Plan IV and Environmental Assessment: Wetlands, Coastal, and Nearshore Habitats; Nutrient Reduction; Birds; Oysters; and Provide and Enhance Recreational Opportunities

AGENCY: Department of the Interior.

ACTION: Notice of availability; request for public comments.

SUMMARY: The natural resource trustee agencies for the Alabama Trustee Implementation Group (Alabama TIG) have prepared the “Draft Restoration Plan IV and Environmental Assessment: Wetlands, Coastal, and Nearshore Habitats; Nutrient Reduction; Birds, Oysters; and Provide and Enhance Recreational Opportunities” (Draft RP/EA). The Draft RP/EA proposes projects to partially restore resources injured in the Deepwater Horizon (DWH) oil spill. The Draft RP/EA evaluates a reasonable range of 11project alternatives under the Oil Pollution Act (OPA), including criteria set forth in the OPA natural resource damage assessment (NRDA) regulations, and the National Environmental Policy Act (NEPA) and its implementing regulations. A No Action alternative is also analyzed for each restoration type. The total cost to implement the Alabama TIG's seven preferred alternatives is approximately $23,000,000. The Alabama TIG invites comments on the Draft RP/EA.

DATES:

Submitting Comments: The Alabama TIG will consider public comments on the Draft RP/EA received on or before July 24, 2024.

Public Webinar: The Alabama TIG will host a public webinar on July 10th, 2024, 12 p.m. CDT. The webinar will include an overview presentation of the Draft RP/EA and a session for general questions regarding the plan. The public will also be able to provide formal comments during the webinar. The public may find information about, and register for, the webinar at https://www.gulfspillrestoration.noaa.gov/restoration-areas/alabama. After registering for a webinar, participants will receive a confirmation email with instructions for joining the webinar. Instructions for commenting will be provided during the webinar. Presentation material and factsheets about the projects can be found on the web at https://www.gulfspillrestoration.noaa.gov/restoration-areas/alabama.

ADDRESSES:

Obtaining Documents: You may download the Draft RP/EA at https://www.gulfspillrestoration.noaa.gov/restoration-areas/alabama. Alternatively, you may request a USB flash drive containing the Draft RP/EA (see FOR FURTHER INFORMATION CONTACT).

Submitting Comments: You may submit comments on the Draft RP/EA by one of the following methods:

• Internet: https://parkplanning.nps.gov/ALTIGRPIV. Follow the online instructions for submitting comments.

• U.S. Mail: US Fish and Wildlife Service Gulf Restoration Office, 1875 Century Blvd., Atlanta, GA 30345. To be considered, mailed comments must be postmarked on or before the deadline given in DATES.

• During the public webinar: Verbal comments may be provided by the public during the webinar.

FOR FURTHER INFORMATION CONTACT: Nanciann Regalado, at nanciann_regalado@fws.gov or 1-678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit Deepwater Horizon, which was drilling a well for BP Exploration and Production, Inc. (BP), experienced a significant explosion, fire, and subsequent sinking in the Gulf of Mexico, resulting in the release of millions of barrels of oil and other discharges into the Gulf. Under the authority of the Oil Pollution Act 1990 (OPA; 33 U.S.C. 2701 et seq.), designated Federal and State Trustees, acting on behalf of the public, assessed the injuries to natural resources and prepared the Deepwater Horizon Oil Spill Final Programmatic Damage Assessment and Restoration Plan and Final Programmatic Environmental Impact Statement (Final PDARP/PEIS), and subsequent record of decision (ROD), which sets forth the governance structure and process for DWH restoration planning under the OPA's natural resource damage assessment (NRDA). On April 4, 2016, the United States District Court for the Eastern District of Louisiana entered a Consent Decree resolving civil claims by the Trustees against BP.

The Alabama TIG is composed of the Alabama Department of Conservation and Natural Resources, the Geological Survey of Alabama, the Environmental Protection Agency, the U.S. Department of the Interior, the National Oceanic and Atmospheric Administration, and the U.S. Department of Agriculture. The Alabama TIG selects and implements restoration projects under the TIG's management authority in accordance with the Consent Decree. The Final PDARP/PEIS, ROD, Consent Decree, and information on the DWH Trustees can be found at https://www.gulfspillrestoration.noaa.gov/restoration-planning/gulf-plan.

Background

On April 19, 2024, the Alabama TIG announced on its website that it had reviewed projects analyzed in previous restoration plans; identified projects that could provide restoration benefits to the Alabama restoration area if selected, continued, or expanded upon; and had initiated drafting its fourth restoration plan and environmental assessment. The Draft RP/EA includes a reasonable range of 11 restoration alternatives (projects) for the five restoration types indicated in the plan's title.

Overview of the Alabama TIG's Draft RP/EA

The Draft RP/EA is being released in accordance with OPA NRDA regulations found in the Code of Federal Regulations (CFR) at 15 CFR part 990, the National Environmental Policy Act (42 U.S.C. 4321 et seq.) and its implementing regulations found at 40 CFR parts 1500-1508, the Final PDARP/PEIS, and the Consent Decree. The Draft RP/EA provides OPA NRDA and NEPA analyses for a reasonable range of 11 alternatives listed below under the restoration types from which funds would be allocated if selected. One project, Lower Perdido Islands Habitat Restoration—Phase II, would be funded through two restoration type allocations: the Wetlands, Coastal, and Nearshore Habitat restoration type and the Birds restoration type. Two projects, the Lower Perdido Islands Habitat Restoration—Phase II project and the Walker Island Expansion project, were considered under both the Wetlands, Coastal, and Nearshore Habitat restoration type and the Birds restoration type and are shown under both restoration types below. The seven preferred alternatives are denoted with an asterisk (*).

Wetlands, Coastal, and Nearshore Habitats Restoration Type:

• Lower Perdido Islands Habitat Restoration Phase II *

• Walker Island Expansion

Nutrient Reduction Restoration Type:

• Puppy Creek—Juniper Creek—Big Creek Nutrient Reduction *

• Bayou la Batre Nutrient Reduction

Birds Restoration Type:

• Stewardship of Coastal Alabama Beach Nesting Bird Habitat *

• Lower Perdido Islands Habitat Restoration—Phase II *

• Walker Island Expansion

Oysters Restoration Type:

• Improving Resilience for Oysters by Linking Brood Reefs and Sink Reefs (Large-scale)—Component 4—Mid-lower Mobile Bay, AL *

• Oyster Grow-Out and Restoration Reef Replacement—5-year continuation *

• Oyster Grow-Out and Restoration Reef Replacement—3-year continuation

Provide and Enhance Recreational Opportunities Restoration Type:

• Bayfront Park Restoration and Improvement Phases Ia and Ib *

• Laguna Cove Little Lagoon Natural Resource Protection—Large Scale Amenities

• Laguna Cove Little Lagoon Natural Resource Protection—Small Scale Amenities *

Next Steps

As described above in DATES, the Alabama TIG will host a public webinar on July 10th, 2024, 12 p.m. CDT. to facilitate the public review and comment process. After the public comment period ends, the Alabama TIG will consider and address the comments received before issuing a final RP/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Draft RP/EA can be viewed electronically at https://www.doi.gov/deepwaterhorizon/adminrecord under folder 6.5.3.2.4.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Department of the Interior, Director of Gulf of Mexico Restoration.

[FR Doc. 2024-13390 Filed 6-21-24; 8:45 am]

BILLING CODE 4310-10-P